DEPARTMENT OF ENERGY

Federal Energy Regulatory Commission

Combined Notice of Filings #1

Take notice that the Commission received the following electric rate filings:

Docket Numbers: ER15-576-000.

Applicants: Southwest Power Pool, Inc.

Description: eTariff filing per 35.19a(b): 2166R3 Westar Energy, Inc. Refund Report to be effective N/A.

Filed Date: 3/26/15.

Accession Number: 20150326-5048.

Comments Due: 5 p.m. ET 4/16/15.

Docket Numbers: ER15-579-000.

Applicants: Southwest Power Pool, Inc.

Description: eTariff filing per 35.19a(b): 2491R2 Westar Energy, Inc. Refund Report to be effective N/A.

Filed Date: 3/26/15.

Accession Number: 20150326-5055.

Comments Due: 5 p.m. ET 4/16/15.

Docket Numbers: ER15-1379-000.

Applicants: TransAlta Energy Marketing (U.S.) Inc.

Description: § 205(d) rate filing per 35.13(a)(2)(iii): Rate Schedule No. 2 to be effective 5/24/2015.

Filed Date: 3/25/15.

Accession Number: 20150325-5267.

Comments Due: 5 p.m. ET 4/15/15.

Docket Numbers: ER15-1380-000.

Applicants: Idaho Power Company.

Description: § 205(d) rate filing per 35.13(a)(2)(iii): Communications Interface Migration Agreement (LaGrande-Pocatello) w/PacifiCorp to be effective 3/24/2015.

Filed Date: 3/25/15.

Accession Number: 20150325-5285.

Comments Due: 5 p.m. ET 4/15/15.

Docket Numbers: ER15-1381-000.

Applicants: HOP Energy, LLC.

Description: Tariff Withdrawal per 35.15: Cancellation of HOP Energy LLC MBR Tariff to be effective 3/31/2015.

Filed Date: 3/26/15.

Accession Number: 20150326-5072.

Comments Due: 5 p.m. ET 4/16/15.

Docket Numbers: ER15-1382-000.

Applicants: Midcontinent Independent System Operator, Inc.

Description: § 205(d) rate filing per 35.13(a)(2)(iii): 2015-03-26_SA 2763 ATC-Escanaba FCA to be effective 3/27/2015.

Filed Date: 3/26/15.

Accession Number: 20150326-5083.

Comments Due: 5 p.m. ET 4/16/15.

Docket Numbers: ER15-1383-000.

Applicants: NSTAR Electric Company.

Description: Initial rate filing per 35.12 NSTAR-HQUS Transfer Agreement (CMEEC Use Rights) to be effective 5/26/2015.

Filed Date: 3/26/15.

Accession Number: 20150326-5182.

Comments Due: 5 p.m. ET 4/16/15.

Docket Numbers: ER15-1384-000.

Applicants: Alabama Power Company.

Description: § 205(d) rate filing per 35.13(a)(2)(iii): Butler Solar LGIA Filing to be effective 3/16/2015.

Filed Date: 3/26/15.

Accession Number: 20150326-5223.

Comments Due: 5 p.m. ET 4/16/15.

Docket Numbers: ER15-1385-000.

Applicants: Arizona Public Service Company.

Description: § 205(d) rate filing per 35.13(a)(2)(iii): Rate Schedule No. 198—Agreement for Interconnection, Amendment No. 1 to be effective 5/26/2015.

Filed Date: 3/26/15.

Accession Number: 20150326-5231.

Comments Due: 5 p.m. ET 4/16/15.

Docket Numbers: ER15-1386-000.

Applicants: Arizona Public Service Company.

Description: § 205(d) rate filing per 35.13(a)(2)(iii): Service Agreement No. 343—Four Corners Circuit Breaker Replace with PacifiCorp to be effective 5/26/2015.

Filed Date: 3/26/15.

Accession Number: 20150326-5235.

Comments Due: 5 p.m. ET 4/16/15.

Take notice that the Commission received the following qualifying facility filings:

Docket Numbers: QF15-569-000.

Applicants: Biogas Power Systems—Mojave, LLC.

Description: Form 556 of Biogas Power Systems—Mojave, LLC under QF15-569.

Filed Date: 3/25/15.

Accession Number: 20150325-5303.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2015.
Nathaniel J. Davis, Sr.,
Deputy Secretary.

[FR Doc. 2015-07530 Filed 4-1-15; 8:45 am]

BILLING CODE 6717-01-P